DEPARTMENT OF HEALTH AND HUMAN SERVICES

Health Resources and Services Administration

National Advisory Council on the National Health Service Corps; Notice of Meeting; Cancellation

In Federal Register Document 01-23611 appearing on page 48691 in the issue for Friday, September 21, 2001, the meeting scheduled for October 11-14, 2001, has been cancelled.

Dated: September 25, 2001.
Jane M. Harrison,
Director, Division of Policy Review and Coordination.

[FR Doc. 01-24466 Filed 9-28-01; 8:45 am]

BILLING CODE 4165-15-P